DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Basic Requirements for Special Exception Permits and Authorizations to Take, Import, and Export Marine Mammals, Threatened and Endangered Species, and for Maintaining a Captive Marine Mammal Inventory Under the Marine Mammal Protection Act, the Fur Seal Act, and/or the Endangered Species Act.

OMB Control Number: 0648-0084.

Form Number(s): 89-880, 89-881, 89-882.

Type of Request: Regular (revision of a currently approved collection).

Number of Respondents: 963.

Average Hours per Response: The estimated average amount of time it takes to complete each information collection instrument is as follows. Scientific research permit applications, 50 hours; public display permit applications, 50 hours; photography permit applications, 10 hours; General Authorization Letters of Intent, 10 hours; major permit modification requests, 35 hours; minor permit modification requests, 3 hours; scientific research permit reports, 12 hours; scientific research parts only permit reports, 8 hours; General Authorization reports, 8 hours; public display permit reports, 2 hours; photography permit reports, 2 hours; public display inventory reporting, 2 hours; and general record keeping, 2 hours per each type.

Burden Hours: 6,771.

Needs and Uses: The Marine Mammal Protection Act (16 U.S.C. 1361 et seq.; MMPA), Fur Seal Act (16 U.S.C. 1151 et seq.; FSA), and Endangered Species Act (16 U.S.C. 1531 et seq.; ESA) prohibit certain activities affecting marine mammals and endangered and threatened species, with exceptions. Pursuant to Section 104 of the MMPA and Section 10(a)(1)(A) of the ESA, special exception permits may be obtained for scientific research and enhancing the survival or recovery of a species or stock of marine mammals or endangered or threatened species. Section 104 of the MMPA also provides for Letters of Confirmation under a General Authorization for scientific research and permits for commercial and educational photography of marine mammals that involve only Level B harassment of marine mammals; permits for capture and/or import of marine mammals for public display; and inventory reporting pertaining to marine mammals in public display facilities.

The regulations pertaining to permits and associated reporting requirements under the MMPA and FSA are at 50 CFR part 216; the regulations for permit requirements under the ESA are at 50 CFR part 222. The required information in this collection is used to make the determinations required by the MMPA, FSA, ESA and their implementing regulations prior to issuing a permit; to establish appropriate permit conditions; to evaluate the impacts of the proposed activity on protected species; and, to ensure compliance with the Acts. The marine mammal inventory forms ensure compliance with MMPA reporting requirements and allow NMFS to maintain the National Inventory of Marine Mammals (NIMM), as required by the MMPA.

This information collection applies to certain protected species for which NMFS is responsible: Cetaceans (whales, dolphins and porpoises) and pinnipeds (seals and sea lions); and, for ESA scientific research and enhancement permits: Sawfish (largetooth and smalltooth), sea turtles (in water), sturgeon (Atlantic and shortnose), and certain foreign ESA-listed species. This information collection may be used for future ESA-listed species.

Affected Public: Individuals; Business or other for-profit organizations; Not-for-profit institutions; State, Local, or Tribal government; Federal government.

Frequency: Permit applications, once every five or ten years; permit reports, annually or more frequently if incidents occur; amendments and modifications to permits, as frequently as requested by permit holders; public display inventory reporting, 15 days prior to transporting or transferring marine mammals and 30 days after the date of birth or death of a marine mammal.

Respondent's Obligation: $986.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2019-27890 Filed 12-26-19; 8:45 am]

BILLING CODE 3510-22-P